DEPARTMENT OF EDUCATION

34 CFR Parts 668, 682, 685 and 692

Student Assistance General Provisions, Federal Family Education Loan Program, William D. Ford Federal Direct Loan Program, and State Student Incentive Grant Program

AGENCY: Department of Education.

ACTION: Final regulations.

SUMMARY: The Secretary makes technical amendments to the Student Assistance General Provisions, Federal Family Education Loan (FFEL) Program, William D. Ford Federal Direct Loan Program, and the State Student Incentive Grant (SSIG) Program regulations. These amendments are necessary to change the name of the SSIG Program to the Leveraging Educational Assistance Partnership (LEAP) Program, correct cross-references, and delete obsolete references. These technical amendments incorporate changes made to the Higher Education Act of 1965, as amended (HEA), by the Higher Education Amendments of 1998 (1998 Amendments).

EFFECTIVE DATE: These regulations take effect June 22, 2000.

FOR FURTHER INFORMATION CONTACT: Ms. Jackie Butler, U.S. Department of Education, 400 Maryland Avenue, SW., Regional Office Building 3, Room 3045, Washington, DC 20202-5447. Telephone: (202) 708-8242.

If you use a telecommunications device for the deaf (TDD), you may call the Federal Information Relay Service (FIRS) at 1-800-877-8339.

Individuals with disabilities may obtain this document in an alternate format (e.g., Braille, large print, audiotape, or computer diskette) on request to the contact person listed.

SUPPLEMENTARY INFORMATION: Because the Higher Education Amendments renamed the State Student Incentive Grant (SSIG) Program the Leveraging Educational Assistance Partnership (LEAP) Program, we are making conforming name changes to the Student Assistance General Provisions regulations, 34 CFR part 668, FFEL Program regulations, 34 CFR part 682, William D. Ford Federal Direct Loan Program regulations, 34 CFR part 685, and SSIG Program regulations, 34 CFR part 692.

We are also correcting cross-references and removing obsolete references. Therefore:

• We have replaced references to “institution of higher education” throughout 34 CFR part 692 with “institution” to reflect the type of institutions described in § 668.1(b) of the Student Assistance General Provisions regulations, and corrected other cross-references to various terms now defined in 34 CFR parts 600 and 668.

• We have removed references to section 1203 of the HEA throughout 34 CFR part 692 to reflect that this section was eliminated by the 1998 Amendments.

• We have removed OMB control numbers after §§ 692.20, 692.21 and 692.40.

Waiver of Proposed Rulemaking

It is the practice of the Secretary to offer interested parties the opportunity to comment on proposed regulations. However, these regulations merely reflect statutory changes, correct cross-references, and remove obsolete regulatory provisions. The changes do not establish or affect substantive policy. Therefore, the Secretary has concluded that these regulations are technical in nature and do not necessitate public comment. Therefore, the Secretary finds that such a solicitation would be unnecessary and contrary to the public interest under 5 U.S.C. 553(b)(B).

For the same reasons, the Secretary has determined, under section 492(b)(2) of the Higher Education Act of 1965, as amended, that these regulations should not be subject to negotiated rulemaking.

Regulatory Flexibility Act Certification

The Secretary certifies that these regulations would not have a significant economic impact on a substantial number of small entities. Small entities affected by these regulations are small institutions of higher education. Although States and State agencies are impacted by these regulations, they are not defined as “small entities” in the Regulatory Flexibility Act. These regulations contain technical amendments designed to clarify and correct current regulations. The changes will not have a significant economic impact on the institutions, State or State agencies affected.

Paperwork Reduction Act of 1995

These regulations have been examined under the Paperwork Reduction Act of 1995 and have been found to contain no information collection requirements.

Intergovernmental Review

The LEAP Program is subject to Executive Order 12372 and the regulations in 34 CFR part 79. The objective of the Executive order is to foster an intergovernmental partnership and a strengthened federalism by relying on processes developed by State and local governments for coordination and review of proposed Federal financial assistance.

In accordance with the order, we intend this document to provide early notification of the Department's specific plans and actions for this program.

Assessment of Educational Impact

Based on our own review, we have determined that these final regulations do not require transmission of information that any other agency or authority of the United States gathers or makes available.

Electronic Access to This Document

You may view this document in text or Adobe Portable Document Format (PDF) on the Internet at the following sites:

http://ocfo.ed.gov/fedreg.htm

http://www.ed.gov/news.html

http://ifap.ed.gov/csb_html/fedlreg.htm

To use the PDF, you must have the Adobe Acrobat Reader, which is available free at the first of the previous sites. If you have questions about using the PDF, call the U.S. Government Printing Office (GPO), toll free, at 1-888-293-6498; or in the Washington, DC area, at (202) 512-1530.

Note: The official version of this document is the document published in the Federal Register. Free Internet access to the official edition of the Federal Register and the Code of Federal Regulations is available on GPO Access at: http://www.access.gpo.gov/nara/index.html.

(Catalog of Federal Domestic Assistance Numbers: 84.032 Federal Family Education Loan Program; 84.069 Leveraging Educational Assistance Partnership Program; and 84.268 William D. Ford Federal Direct Loan Program)

List of Subjects

34 CFR Part 668

Administrative practice and procedure, Colleges and universities, Consumer protection, Grant programs-—education, Loan programs—education, Reporting and recordkeeping requirements, Student aid.

34 CFR Parts 682 and 685

Administrative practice and procedure, Colleges and universities, Education, Loan programs—education, Reporting and recordkeeping requirements, Student aid, Vocational education.

34 CFR Part 692

Grant programs—education, Postsecondary education, State administered—education, Student aid—education, Reporting and recordkeeping requirements.

Dated: June 15, 2000.
A. Lee Fritschler,
Assistant Secretary, Office of Postsecondary Education.

For the reasons stated in the preamble, the Secretary amends title 34 of the Code of Federal Regulations parts 668, 682, 685 and 692 as follows:

PART 668—STUDENT ASSISTANCE GENERAL PROVISIONS

1. The authority citation for part 668 is revised to read as follows:

Authority: 20 U.S.C. 1001, 1002, 1003, 1085, 1088, 1091, 1091b, 1092, 1094, 1099-c, and 1099c-1, unless otherwise noted.

§ 668.1 [Amended]

2. Section 668.1(c)(4) is amended by removing “State Student Incentive Grant (SSIG) Program” and adding, in its place, “Leveraging Educational Assistance Partnership (LEAP) Program”.

§ 668.2 [Amended]

3. Section 668.2(b) is amended by removing the definition State Student Incentive Grant (SSIG) program: and adding, in alphabetical order, the definition Leveraging Educational Assistance Partnership (LEAP) Program: The grant program authorized by Title IV-A-4 of the HEA.

§ 668.14 [Amended]

4. Section 668.14 is amended by removing “SSIG and NEISP” from paragraphs (a)(1) and (c) and adding, in its place, “LEAP and NEISP”.

§ 668.26 [Amended]

5. Section 668.26(b)(5) is amended by removing “NEISP or SSIG Program” and adding, in its place, “NEISP or LEAP Program”.

§ 668.35 [Amended]

6. Section 668.35(e)(2) is amended by removing “SSIG” and adding, in its place, “LEAP”.

§ 668.138 [Amended]

7. Section 668.138(a) is amended by removing “SSIG” and adding, in its place, “LEAP”.

§ 668.139 [Amended]

8. Section 668.139(c) is amended by removing “SSIG” and adding, in its place, “LEAP”.

PART 682—FEDERAL FAMILY EDUCATION LOAN (FFEL) PROGRAM

9. The authority citation for part 682 continues to read as follows:

Authority: 20 U.S.C. 1071 to 1087-2, unless otherwise noted.

§ 682.200 [Amended]

10. Section 682.200(a)(1) is amended by removing “State Student Incentive Grant (SSIG) Program” and adding, in alphabetical order, “Leveraging Educational Assistance Partnership (LEAP) Program”.

PART 685-WILLIAM D. FORD FEDERAL DIRECT LOAN PROGRAM

11. The authority citation for part 685 continues to read as follows:

Authority: 20 U.S.C. 1087a et seq., unless otherwise noted.

§ 685.102 [Amended]

12. Section 685.102(a)(1) is amended by removing “Federal State Student Incentive Grant Program” and adding, in alphabetical order, “Leveraging Educational Assistance Partnership Program”.

PART 692—LEVERAGING EDUCATIONAL ASSISTANCE PARTNERSHIP PROGRAM

13. The part heading is revised to read as set forth above.

14. The authority citation for part 692 continues to read as follows:

Authority: 20 U.S.C. 1070c through 1070c-4, unless otherwise noted.

15. The heading of subpart A is revised to read as follows:

Subpart A—Leveraging Educational Assistance Partnership Program

16. The subpart designations for subparts B through E are removed; §§ 692.10 through 692.41 are transferred to subpart A, and the subpart headings remain as undesignated center headings in subpart A.

§ 692.1 [Amended]

17. An undesignated center heading “General” is added preceding § 692.1.

18. Section 692.1 is amended by removing “State Student Incentive Grant” in the heading and adding, in its place, “Leveraging Educational Assistance Partnership”; and by removing “State Student Incentive Grant” in the text and adding, in its place, “Leveraging Educational Assistance Partnership (LEAP)”.

§ 692.2 [Amended]

19. Section 692.2 is amended by removing “State Student Incentive Grant” in the heading and adding, in its place, “LEAP”; and by removing “this program” in paragraphs (a) and (b) and adding, in its place, “the LEAP Program”.

§ 692.3 [Amended]

20. Section 692.3 is amended by:

A. Removing “State Student Incentive Grant” in the heading and undesignated introductory text, and adding, in its place, “LEAP”;

B. Removing “(Drug-Free Schools and Campuses)” in paragraph (b)(8), and adding, in its place, “(Drug and Alcohol Abuse Prevention)”;

C. Removing paragraph (c); and

D. Redesignating paragraph (d) as paragraph (c).

21. Section 692.4 is amended by revising the heading, paragraph (a), paragraph (b), and the introductory text of paragraph (c) to read as follows:

§ 692.4 What definitions apply to the LEAP Program?

* * * * *

(a) The definitions of the following terms under 34 CFR part 600:

Postsecondary vocational institution (§ 600.6).

Public or private nonprofit institution of higher education (§ 600.4).

Secretary (§ 600.2).

State (§ 600.2).

(b) The definitions of the following terms under 34 CFR part 668:

Academic year (§ 668.2).

Enrolled (§ 668.2).

HEA (§ 668.2).

Institution (§ 668.1(b)).

(c) The definitions of the following terms also apply to the LEAP Program:

* * * * *

§ 692.10 [Amended]

22. Section 692.10 is amended by removing “SSIG” the four times it appears in paragraph (a)(1), the five times it appears in paragraph (a)(2), and the three times it appears in paragraph (b), and adding, in its place, “LEAP”.

§ 692.11 [Amended]

23. Section 692.11 is amended by removing “the program” in the heading, and adding, in its place, “the LEAP Program”; and by removing “this part” in the text, and adding, in its place, “the LEAP Program”.

24. The undesignated center heading that appears above § 692.20 is amended by removing “This Program”, and adding, in its place, “The LEAP Program”.

25. Section 692.20 is amended by:

A. Removing paragraph (a);

B. Redesignating paragraphs (b) and (c) as paragraphs (a) and (b), respectively;

C. Removing “State Student Incentive Grant” in newly redesignated paragraph (a), and adding, in its place, “Leveraging Educational Assistance Partnership”;

D. Revising newly redesignated paragraph (b); and

E. Removing the OMB control number and the cross-reference following the section.

The revision reads as follows:

§ 692.20 What must a State do to receive an allotment under the LEAP Program?

* * * * *

(b)(1) Except as provided in paragraph (b)(2) of this section, the State must submit its application through the State agency designated to administer its Leveraging Educational Assistance Partnership Program as of July 1, 1985.

(2) If the Governor of the State so designates, and notifies the Secretary in writing, the State may submit its application under paragraph (a) of this section through an agency that did not administer its Leveraging Educational Assistance Partnership Program as of July 1, 1985.

§ 692.21 [Amended]

26. Section 692.21 is amended by:

A. Removing “this program” in the undesignated introductory text, and adding, in its place, “the LEAP Program”;

B. Removing “in accordance with the Federal-State Relationship Agreement under section 1203 of the HEA” in paragraph (a);

C. Removing “of higher education” in paragraph (g);

D. Amending paragraph (h)(2) by removing “of higher education”, and by removing “this program” both times it appears, and adding, in its place, “the LEAP Program”;

E. Removing “SSIG” both times it appears in paragraph (j), and adding, in its place, “LEAP”;

F. Removing “this part” in paragraph (k), and adding, in its place, “the LEAP Program”; and

G. Removing the OMB control number following the section.

§ 692.30 [Amended]

27. Section 692.30 is amended by removing “of higher education” in paragraphs (b)(1) and (d)(1); and by removing “this part” in paragraph (e)(1), and adding, in its place, “the LEAP Program”.

§ 692.40 [Amended]

28. The undesignated center heading that appears above § 692.40 is amended by removing “This Program”, and adding, in its place, “The LEAP Program”.

29. Section 692.40 is amended by removing “668.7” and adding, in its place, “668.32” in paragraph (a); and by removing the OMB control number following the section.

Subpart B—[Added and Reserved]

30. Subpart B—is added and reserved.

[FR Doc. 00-15658 Filed 6-21-00; 8:45 am]

BILLING CODE 4000-01-P